Presidential Determination No. 2010-12 of August 26, 2010—Unexpected Urgent Refugee and Migration Needs Resulting from Violence in Kyrgyzstan

Correction

In Presidential document 2010-27672 beginning on page 67013 in the issue of Monday, November 1, 2010, make the following correction:

On page 67013, the Presidential Determination number should read “2010-12”

[FR Doc. C1-2010-27672

Filed 11-5-10; 8:45 am]

Billing Code 1505-01-D